DEPARTMENT OF TRANSPORTATION

Federal Aviation Administration

14 CFR Part 33

[Docket No. NE130; Special Conditions No. 33-008-SC]

Special Conditions: Pratt and Whitney Canada Model PW210S Turboshaft Engine

Correction

In rule document 2011-14113 appearing on pages 33981-33982 in the issue of Friday, June 10, 2011, make the following correction:

On page 33981, in the first column, in the heading, Special Conditions No. “33-008-SCI” should read “33-008-SC”.

[FR Doc. C1-2011-14113 Filed 1-12-12; 8:45 am]

BILLING CODE 1505-01-D